DEPARTMENT OF HEALTH AND HUMAN SERVICES

Centers for Disease Control and Prevention

Agency for Toxic Substances and Disease Registry

Center for State, Tribal, Local, and Territorial Support (CSTLTS), CDC/ATSDR Tribal Consultation Session

AGENCY: Centers for Disease Control and Prevention (CDC)/Agency for Toxic Substances and Disease Registry (ATSDR), Department of Health and Human Services (HHS).

ACTION: Notice of meeting.

SUMMARY: The Centers for Disease Control and Prevention (CDC)/Agency for Toxic Substances and Disease Registry (ATSDR) announces the 2023 CDC/ATSDR Tribal Consultation. CDC/ATSDR will host a virtual tribal consultation with American Indian and Alaska Native (AI/AN) Federally Recognized Tribes. The proceedings will be open to the public.

DATES: The tribal consultation will be held on February 9, 2023, from 4:00 p.m. to 5:00 p.m., EST. Written tribal testimony is due by 5:00 p.m. EST, on February 24, 2023.

ADDRESSES: Virtually through Zoom. To register, go to https://cdc.zoomgov.com/webinar/register/WN_ZwUuFp2UT8KPKYYN8U9BPA. All elected tribal officials are encouraged to submit written tribal testimony to the contact person and mailing address listed below or by email at Tribalsupport@cdc.gov.

FOR FURTHER INFORMATION CONTACT: Joanne Odenkirchen, MPH, Senior Public Health Advisor, Office of Tribal Affairs and Strategic Alliances, Center for State, Tribal, Local, and Territorial Support, CDC, 1600 Clifton Road NE, Mailstop V18-4, Atlanta, Georgia 30329-4027; Telephone: (404) 498-0300; Email: Tribalsupport@cdc.gov.

SUPPLEMENTARY INFORMATION: This meeting is being held in accordance with Presidential Executive Order No. 13175 of November 6, 2000, Consultation and Coordination with Indian Tribal Governments and the Presidential Memoranda of January 26, 2021, November 5, 2009, and September 23, 2004.

Purpose: The purpose of the consultation meeting is to advance CDC/ATSDR support for and collaboration with American Indian and Alaska Native (AI/AN) tribal nations and to improve the health of AI/AN people by pursuing goals that include assisting in eliminating health disparities faced by tribal nations; ensuring that access to critical health and human services and public health services is maximized to advance or enhance the social, physical, and economic status of AI/AN people; and promoting health equity for all AI/AN people and communities. To advance these goals, CDC/ATSDR conducts government-to-government consultations with elected tribal officials or their authorized representatives. The tribal consultation is intended to provide interested parties with an opportunity to discuss their public health priorities that may affect tribal nations. Consultation is an enhanced form of communication that emphasizes trust, respect, and shared responsibility. It is an open and free exchange of information and opinion among parties that leads to mutual understanding.

Matters to be Considered: CDC/ATSDR is hosting this meeting to hold consultation with federally recognized tribal nations to receive input and guidance on strengthening relationships during the implementation of the CDC Moving Forward Initiative. CDC/ATSDR is seeking feedback on how the agency can better engage with Indian country through meaningful consultation. The consultation will be held to also hear from tribes on their priorities as we transition out of the COVID-19 public health emergency and on how CDC/ATSDR can better support tribes and tribal communities moving forward.

Elected tribal officials can find guidance to assist in developing tribal testimony for CDC/ATSDR at https://www.cdc.gov/tribal/documents/consultation/Tribal-Testimony-Guidance.pdf. Please submit tribal testimony on official tribal letterhead.

Based on the number of elected tribal officials giving testimony and the time available, it may be necessary to limit the time for each presenter. We will adjourn tribal consultation meetings early if all attendees who requested to provide oral testimony in advance of and during the consultation have delivered their comments. Agenda items are subject to change as priorities dictate.

Additional information about CDC/ATSDR's Tribal Consultation Policy can be found at https://www.cdc.gov/tribal/consultation-support/tribal-consultation/policy.html.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-26958 Filed 12-12-22; 8:45 am]

BILLING CODE 4163-18-P